DEPARTMENT OF TRANSPORTATION

Federal Aviation Administration

14 CFR Part 39

[Docket No. FAA-2019-0318; Product Identifier 2019-NM-015-AD; Amendment 39-19745; AD 2019-19-09]

RIN 2120-AA64

Airworthiness Directives; Airbus SAS Airplanes

AGENCY: Federal Aviation Administration (FAA), Department of Transportation (DOT).

ACTION: Final rule.

SUMMARY: The FAA is adopting a new airworthiness directive (AD) for all Airbus SAS Model A330-200 Freighter, A330-200, and A330-300 series airplanes. This AD was prompted by an analysis conducted on Airbus SAS Model A330-200 Freighter, A330-200, and A330-300 series airplanes that identified structural areas that are susceptible to widespread fatigue damage (WFD). This AD requires reinforcement modifications of various structural parts of the fuselage, and applicable related investigative and corrective actions if necessary, as specified in a European Aviation Safety Agency (EASA) AD, which is incorporated by reference. The FAA is issuing this AD to address the unsafe condition on these products.

DATES: This AD is effective November 5, 2019.

The Director of the Federal Register approved the incorporation by reference of a certain publication listed in this AD as of November 5, 2019.

ADDRESSES: For the material incorporated by reference (IBR) in this AD, contact the EASA, Konrad-Adenauer-Ufer 3, 50668 Cologne, Germany; telephone +49 221 89990 1000; email ADs@easa.europa.eu; internet www.easa.europa.eu. You may find this IBR material on the EASA website at https://ad.easa.europa.eu. You may view this material at the FAA, Transport Standards Branch, 2200 South 216th St., Des Moines, WA. For information on the availability of this material at the FAA, call 206-231-3195. It is also available in the AD docket on the internet at http://www.regulations.gov by searching for and locating Docket No. FAA-2019-0318.

Examining the AD Docket

You may examine the AD docket on the internet at http://www.regulations.gov by searching for and locating Docket No. FAA-2019-0318; or in person at Docket Operations between 9 a.m. and 5 p.m., Monday through Friday, except Federal holidays. The AD docket contains this final rule, the regulatory evaluation, any comments received, and other information. The address for Docket Operations is U.S. Department of Transportation, Docket Operations, M-30, West Building Ground Floor, Room W12-140, 1200 New Jersey Avenue SE, Washington, DC 20590.

FOR FURTHER INFORMATION CONTACT: Vladimir Ulyanov, Aerospace Engineer, International Section, Transport Standards Branch, FAA, 2200 South 216th St., Des Moines, WA 98198; telephone and fax 206-231-3229.

SUPPLEMENTARY INFORMATION:

Discussion

The EASA, which is the Technical Agent for the Member States of the European Union, has issued EASA AD 2018-0276R1, dated January 11, 2019; corrected January 15, 2019 (“EASA AD 2018-0276R1”) (referred to after this as the Mandatory Continuing Airworthiness Information, or “the MCAI”), to correct an unsafe condition for all Airbus SAS Model A330-200 Freighter, A330-200, and A330-300 series airplanes.

The FAA issued a notice of proposed rulemaking (NPRM) to amend 14 CFR part 39 by adding an AD that would apply to all Airbus SAS Model A330-200 Freighter, A330-200, and A330-300 series airplanes. The NPRM published in the Federal Register on May 16, 2019 (84 FR 22075). The NPRM was prompted by an analysis conducted on Airbus SAS Model A330-200 Freighter, A330-200, and A330-300 series airplanes that identified structural areas that are susceptible to WFD. The NPRM proposed to require reinforcement modifications of various structural parts of the fuselage, and applicable related investigative and corrective actions if necessary.

The FAA is issuing this AD to address structural areas that are susceptible to WFD, which, if not corrected, could lead to crack initiation and undetected propagation, reducing the structural integrity of the airplane, possibly resulting in rapid depressurization and consequent injury to occupants. See the MCAI for additional background information.

Comments

The FAA gave the public the opportunity to participate in developing this final rule. The following presents the comments received on the NPRM and the FAA's response to each comment. Commenters Christopher Cracraft, Samuel Hazo, and American Airlines (AAL) stated that they support the NPRM.

Request To Use Later-Approved Service Information

AAL requested that the FAA provide a statement in the final rule confirming its approval of later-approved service information since the FAA rarely allows such practice without an alternative method of compliance (AMOC).

This AD does not exclude the “Ref. Publications” section of EASA AD 2018-0276R1, so that section is applicable to this AD, which addresses the commenter's concern. The FAA does not find it necessary to provide an additional statement regarding this issue in this AD. Therefore, the FAA has not changed this AD regarding this issue.

Request To Allow Alternative Corrosion-Inhibiting Compounds (CICs)

Delta Airlines (DAL) generally supported the NPRM but requested that the FAA allow operators to use their CICs, which are controlled by their FAA-principal maintenance inspector (PMI), for their corrosion prevention and control program (CPCP). DAL stated that the instructions in the service information include the reapplication of CICs. DAL commented that the CICs do not always align with the CIC products specified in the service information, which forces operators to apply for an AMOC for use of their preferred CICs.

In addition, DAL stated that corrosion is not the subject of the unsafe condition in the proposed AD, and operators should be able maintain their airplanes at their discretion through their FAA-accepted programs. DAL commented that CICs that are PMI accepted have shown an equivalent level of safety, and their use should continue to be accepted since they are not the subject of the unsafe condition in the NPRM.

The FAA disagrees with the commenter's request. The CICs are identified in certain Airbus service information under tasks that are identified as “required for compliance” (RC), and that service information is specified in the MCAI, which is incorporated by reference in this AD. Therefore, any substitutions or changes to procedures or tests identified as RC require approval of an AMOC. Under the provisions of paragraph (j)(1) of this AD, the FAA will consider requests for approval of an AMOC if sufficient data are submitted to substantiate that the change provides an acceptable level of safety. The FAA has not changed this AD regarding this issue.

Request To Issue Multiple Proposed ADs

AAL requested that the FAA issue one proposed AD for each of the 24 service documents specified in EASA AD 2018-0276R1 as a way to control the actions and thresholds. AAL stated that one proposed AD per service document would alleviate the need for multiple revisions to a single “master” AD if issues arise in a particular service document. AAL also commented that if the “master” AD is revised or superseded, it must revise each internal document (i.e., engineering orders (E.O.)) that affects that AD versus just the one specific E.O. that matches the service information that resulted in the AD revision. AAL commented that revising internal documents also affects AMOCs. AAL stated that revising internal documents is a heavy burden on the operator and on the local FAA authority tasked to review its documents for compliance.

AAL commented that issuing one “master” AD places a burden on its information technology (IT) system. AAL stated that its maintenance tracking system (“SCEPTRE”) permits the creation of one tracking method for one AD, and will not sufficiently be able to track multiple service information thresholds under one AD as its system does not support this.

In addition, AAL stated that it must report its AD status to the FAA and that ADs for all airplane numbers must show the AD compliance date or forecasted due date on the report. AAL commented that the thresholds on several of the service documents are so far out that they may never be reached, and the AD report would never show compliance even though the operator is taking actions on the lower-threshold service information.

The FAA disagrees with the commenter's request. The FAA has determined that in general, issuing one AD for the same unsafe condition (as EASA has done in this case) is more efficient and provides adequate time to correct the specified unsafe condition. While it is understandable that a manufacturer would like to minimize IT issues involving its AD tracking system, the FAA typically follows the recommendations of the State of Design Authority (in this case EASA) for the compliance time and method for addressing the unsafe condition. In addition, issuing one AD per service document would require additional public notice and comment period, further delaying the actions required to address the specified unsafe condition. The FAA has not changed this AD in this regard.

Conclusion

The FAA reviewed the relevant data, considered the comments received, and determined that air safety and the public interest require adopting this final rule as proposed, except for minor editorial changes. The FAA has determined that these minor changes:

• Are consistent with the intent that was proposed in the NPRM for addressing the unsafe condition; and

• Do not add any additional burden upon the public than was already proposed in the NPRM.

Related IBR Material Under 1 CFR Part 51

EASA AD 2018-0276R1 describes procedures for reinforcement modifications of various structural parts of the fuselage, and applicable related investigative and corrective actions if necessary. This material is reasonably available because the interested parties have access to it through their normal course of business or by the means identified in the ADDRESSES section.

Costs of Compliance

The FAA estimates that this AD affects 104 airplanes of U.S. registry. The FAA estimates the following costs to comply with this AD:

Estimated Costs for Required Actions
Labor cost | Parts cost | Cost per product | Cost on U.S. operators
Up to 413 work-hours × $85 per hour = $35,105 | Up to $125,190 | Up to $160,295 | Up to $16,670,680.

The FAA has received no definitive data that would enable the FAA to provide cost estimates for the on-condition actions specified in this AD.

Authority for This Rulemaking

Title 49 of the United States Code specifies the FAA's authority to issue rules on aviation safety. Subtitle I, section 106, describes the authority of the FAA Administrator. Subtitle VII: Aviation Programs, describes in more detail the scope of the Agency's authority.

The FAA is issuing this rulemaking under the authority described in Subtitle VII, Part A, Subpart III, Section 44701: “General requirements.” Under that section, Congress charges the FAA with promoting safe flight of civil aircraft in air commerce by prescribing regulations for practices, methods, and procedures the Administrator finds necessary for safety in air commerce. This regulation is within the scope of that authority because it addresses an unsafe condition that is likely to exist or develop on products identified in this rulemaking action.

This AD is issued in accordance with authority delegated by the Executive Director, Aircraft Certification Service, as authorized by FAA Order 8000.51C. In accordance with that order, issuance of ADs is normally a function of the Compliance and Airworthiness Division, but during this transition period, the Executive Director has delegated the authority to issue ADs applicable to transport category airplanes and associated appliances to the Director of the System Oversight Division.

Regulatory Findings

This AD will not have federalism implications under Executive Order 13132. This AD will not have a substantial direct effect on the States, on the relationship between the national government and the States, or on the distribution of power and responsibilities among the various levels of government.

For the reasons discussed above, I certify that this AD:

(1) Is not a “significant regulatory action” under Executive Order 12866,

(2) Will not affect intrastate aviation in Alaska, and

(3) Will not have a significant economic impact, positive or negative, on a substantial number of small entities under the criteria of the Regulatory Flexibility Act.

List of Subjects in 14 CFR Part 39

Air transportation, Aircraft, Aviation safety, Incorporation by reference, Safety.

Adoption of the Amendment

Accordingly, under the authority delegated to me by the Administrator, the FAA amends 14 CFR part 39 as follows:

PART 39—AIRWORTHINESS DIRECTIVES

1. The authority citation for part 39 continues to read as follows:

Authority: 49 U.S.C. 106(g), 40113, 44701.

§ 39.13 [Amended]

2. The FAA amends § 39.13 by adding the following new airworthiness directive (AD):

2019-19-09 Airbus SAS: Amendment 39-19745; Docket No. FAA-2019-0318; Product Identifier 2019-NM-015-AD.

(a) Effective Date

This AD is effective November 5, 2019.

(b) Affected ADs

None.

(c) Applicability

This AD applies to all airplanes identified in paragraphs (c)(1) through (3) of this AD, certificated in any category, all manufacturer serial numbers.

(1) Airbus SAS Model A330-223F and -243F airplanes.

(2) Airbus SAS Model A330-201, -202, -203, -223, and -243 airplanes.

(3) Airbus SAS Model A330-301, -302, -303, -321, -322, -323, -341, -342, and -343 airplanes.

(d) Subject

Air Transport Association (ATA) of America Code 53, Fuselage.

(e) Reason

This AD was prompted by an analysis conducted on Airbus SAS Model A330-200 Freighter, -200, and -300 series airplanes that identified structural areas that are susceptible to widespread fatigue damage (WFD). The FAA is issuing this AD to address this condition, which could lead to crack initiation and undetected propagation, reducing the structural integrity of the airplane, possibly resulting in rapid depressurization and consequent injury to occupants.

(f) Compliance

Comply with this AD within the compliance times specified, unless already done.

(g) Requirements

Except as specified in paragraph (h) of this AD: Comply with all required actions and compliance times specified in, and in accordance with, EASA AD 2018-0276R1, dated January 11, 2019; corrected January 15, 2019 (“EASA AD 2018-0276R1”).

(h) Exceptions to EASA AD 2018-0276R1

(1) The “Remarks” section of EASA AD 2018-0276R1 does not apply to this AD.

(2) Where paragraph (1) of EASA AD 2018-0276R1 specifies to modify the airplane in accordance with each applicable service bulletin as specified in Appendix 1 of EASA AD 2018-0276R1, this AD also requires the accomplishment of all applicable related investigative and corrective actions before further flight in accordance with each applicable service bulletin as specified in Appendix 1 of EASA AD 2018-0276R1.

(3) For airplanes already modified before the threshold specified in Table 2 of Appendix 1 of EASA AD 2018-0276R1 is reached, within 6 months after the effective date of this AD, obtain instructions for additional maintenance tasks (e.g., modifications/inspections) from the Manager, International Section, Transport Standards Branch, FAA; or the European Aviation Safety Agency (EASA); or Airbus SAS's EASA Design Organization Approval (DOA); and accomplish those tasks within the compliance time specified therein. If approved by the DOA, the approval must include the DOA-authorized signature.

(i) No Reporting Requirement

Although certain service information referenced in EASA AD 2018-0276R1 specifies to submit certain information to the manufacturer, this AD does not include that requirement.

(j) Other FAA AD Provisions

The following provisions also apply to this AD:

(1) Alternative Methods of Compliance (AMOCs): The Manager, International Section, Transport Standards Branch, FAA, has the authority to approve AMOCs for this AD, if requested using the procedures found in 14 CFR 39.19. In accordance with 14 CFR 39.19, send your request to your principal inspector or local Flight Standards District Office, as appropriate. If sending information directly to the International Section, send it to the attention of the person identified in paragraph (k)(2) of this AD. Information may be emailed to: 9-ANM-116-AMOC-REQUESTS@faa.gov. Before using any approved AMOC, notify your appropriate principal inspector, or lacking a principal inspector, the manager of the local flight standards district office/certificate holding district office.

(2) Contacting the Manufacturer: For any requirement in this AD to obtain instructions from a manufacturer, the instructions must be accomplished using a method approved by the Manager, International Section, Transport Standards Branch, FAA; or EASA; or Airbus SAS's EASA Design Organization Approval (DOA). If approved by the DOA, the approval must include the DOA-authorized signature.

(3) Required for Compliance (RC): For any service information referenced in EASA AD 2018-0276R1 that contains RC procedures and tests: Except as required by paragraphs (h)(3) and (j)(2) of this AD, RC procedures and tests must be done to comply with this AD; any procedures or tests that are not identified as RC are recommended. Those procedures and tests that are not identified as RC may be deviated from using accepted methods in accordance with the operator's maintenance or inspection program without obtaining approval of an AMOC, provided the procedures and tests identified as RC can be done and the airplane can be put back in an airworthy condition. Any substitutions or changes to procedures or tests identified as RC require approval of an AMOC.

(k) Related Information

(1) Refer to Mandatory Continuing Airworthiness Information (MCAI) EASA Airworthiness Directive 2018-0276R1, dated January 11, 2019; corrected January 15, 2019, for related information. This MCAI may be found in the AD docket on the internet at http://www.regulations.gov by searching for and locating Docket No. FAA-2019-0318.

(2) For more information about this AD, contact Vladimir Ulyanov, Aerospace Engineer, International Section, Transport Standards Branch, FAA, 2200 South 216th St., Des Moines, WA 98198; telephone and fax 206-231-3229.

(l) Material Incorporated by Reference

(1) The Director of the Federal Register approved the incorporation by reference (IBR) of the service information listed in this paragraph under 5 U.S.C. 552(a) and 1 CFR part 51.

(2) You must use this service information as applicable to do the actions required by this AD, unless this AD specifies otherwise.

(i) European Aviation Safety Agency (EASA) AD 2018-0276R1, dated January 11, 2019; corrected January 15, 2019.

(ii) [Reserved]

(3) For information about EASA AD 2018-0276R1, contact the EASA, Konrad-Adenauer-Ufer 3, 50668 Cologne, Germany; telephone +49 221 89990 6017; email ADs@easa.europa.eu; Internet www.easa.europa.eu.

(4) You may view this material at the FAA, Transport Standards Branch, 2200 South 216th St., Des Moines, WA. For information on the availability of this material at the FAA, call 206-231-3195.

(5) You may view this material that is incorporated by reference at the National Archives and Records Administration (NARA). For information on the availability of this material at NARA, email fedreg.legal@nara.gov, or go to: http://www.archives.gov/federal-register/cfr/ibr-locations.html.

Issued in Des Moines, Washington, on September 19, 2019.
Suzanne Masterson,
Acting Director, System Oversight Division, Aircraft Certification Service.

[FR Doc. 2019-21240 Filed 9-30-19; 8:45 am]

BILLING CODE 4910-13-P